DEPARTMENT OF HEALTH AND HUMAN SERVICES

Health Resources and Services Administration

Notice of Supplemental Funding for Regional Pediatric Pandemic Network Award Recipients

AGENCY: Health Resources and Services Administration (HRSA), Department of Health and Human Services.

ACTION: Notice of supplemental funding.

SUMMARY: Per Congressional Report language accompanying the Further Consolidated Appropriations Act, 2024, HRSA is awarding supplemental funds in FY 2024 to two Regional Pediatric Pandemic Network (RPPN) Program recipients to increase activities to coordinate among the Nation's pediatric hospitals and their communities to prepare for and coordinate research-informed responses to future pandemics. The current RPPN program period of performance ends on August 31, 2026.

FOR FURTHER INFORMATION CONTACT: Sara Kinsman, MD, Director, Division of Child, Adolescent & Family Health, Maternal & Child Bureau, HRSA, at SKinsman@hrsa.gov and 301-443-2250.

SUPPLEMENTARY INFORMATION:

Intended Recipient(s) of the Award: Children's National Medical Center in Maryland, and University Hospitals Cleveland Medical Center in Ohio, as listed in table I.

Amount of Non-Competitive Awards: Two awards totaling up to $5,819,999.

Project Period: September 1, 2021, to August 31, 2026.

Assistance Listing (CFDA) Number: 93.110.

Award Instrument: A supplement for RPPN support services.

Authority: Section 42 U.S.C. 701(a)(2) (title V, sec. 501(a)(2) of the Social Security Act).

Table 1—Recipients and Supplement Award Amounts
Grant No. | Award recipient name | City, state | Award amount
U1IMC45814 | Children's National Medical Center | MD | $4,158,048
U1IMC43532 | University Hospitals Cleveland Medical Center | OH | 1,661,951

Justification: Per Congressional Report language accompanying the Further Consolidated Appropriations Act, 2024, (Pub. L. 118-47) approximately $5,819,999 in supplemental funding is being awarded in FY 2024 to the two RPPN cooperative agreement recipients to increase activities to coordinate among the Nation's pediatric hospitals and their communities to prepare for and coordinate research-informed responses to future pandemics. This funding will increase the RPPN's capacity to help the 10 pediatric hospitals in the network to curate and disseminate guidance; develop models; increase the number of children's hospitals participating in preparedness activities; and integrate RPPN into existing HRSA regions for sustainability and emergency coordination within the regions.

Funds will be used for project activities within the scope of the current awards (as announced in the funding opportunity HRSA-21-104) to improve everyday pediatric emergency readiness and pediatric pandemic preparedness. Supplements will provide for the expansion of activities within the current scope of the program to (a) increase partnerships with the communities they serve, including efforts to prevent and address disparities; (b) improve and expand pediatric emergency readiness and preparedness of pre-hospital emergency medical services, community emergency departments, and inpatient settings; and (c) accelerate real-time dissemination of research-informed pediatric care. The total amount provided through this supplemental funding to the two awardees will be $5,819,999, resulting in a total amount for each awardee of $11,358,048. Supplemental funding amounts per awardee differ in order to meet the congressional direction to achieve parity between the two awardees' total funding levels.

Projects approved by HRSA under this supplement are to be performed from the date of award through August 31, 2025. Supplemental funding for similar activities may be considered in future years, subject to the availability of funding for the activity and satisfactory performance.

Carole Johnson,
Administrator.

[FR Doc. 2024-17821 Filed 8-9-24; 8:45 am]

BILLING CODE 4165-15-P